DEPARTMENT OF HEALTH AND HUMAN SERVICES

Centers for Disease Control and Prevention

National Center for Health Statistics (NCHS), Classifications and Public Health Data Standards Staff, Announces the Following Meeting

Name: ICD-9-CM Coordination and Maintenance Committee meeting.

Times and Dates: 9 a.m.-5:30 p.m., March 9, 2011. 9 a.m.-5:30 p.m., March 10, 2011.

Place: Centers for Medicare and Medicaid Services (CMS) Auditorium, 7500 Security Boulevard, Baltimore, Maryland 21244.

Status: Open to the public, limited only by the space available. The meeting room accommodates approximately 240 people.

Security Considerations: Due to increased security requirements CMS has instituted stringent procedures for entrance into the building by non-government employees. Attendees will need to present valid government-issued picture identification, and sign-in at the security desk upon entering the building.

Attendees who wish to attend a specific ICD-9-CM C&M meeting on March 9-10, 2011, must submit their name and organization by March 5, 2011, for inclusion on the visitor list. This visitor list will be maintained at the front desk of the CMS building and used by the guards to admit visitors to the meeting.

Participants who attended previous ICD-9-CM C&M meetings will no longer be automatically added to the visitor list. You must request inclusion of your name prior to each meeting you attend.

Please register to attend the meeting on-line at: http://www.cms.hhs.gov/apps/events/.

Please contact Mady Hue (410-786-4510 or Marilu.hue@cms.hhs.gov), for questions about the registration process.

Purpose: The ICD-9-CM Coordination and Maintenance (C&M) Committee is a public forum for the presentation of proposed modifications to the International Classification of Diseases, Ninth-Revision, Clinical Modification.

Matters To Be Discussed: Agenda items include:

March 9, 2011

ICD-10 Topics:

Code freeze

Abbreviated titles

V28.0 ICD-10 MS-DRGs

ICD-10-PCS Updates

ICD-10-CM updates

ICD-9-CM Procedure Topics:

AngelMed Guardian

Cerebral tissue oximetry

Coils

Completion angiography

Electromagnetic tip for nodules

Embolization of uterine artery

Excisional debridement

External ventricular drainage

Frame with ultrasound of brain and TPA

Hip bearing surface

Hydrosurgery/VersaJet

Implantation of an anti-microbial envelope

Insertion of aqueous drainage shunt

Knee resurfacing

Lead extraction

Left atrial appendage exclusion femoral/epicardial access

Neuroflow endovascular dual balloon catheter

Non-excisional debridement

Occlusion of left atrial appendage

PTCA/Atherectomy

Sling operation for male incontinence

Sleeve gastrectomy

Spinal cord neurostimulator

Transcatheter aortic valve replacement

Addenda (procedures)

ICD-10-PCS Topics:

Bearing surface of total ankle replacement

Intra-operative monitoring in ICD-10-PCS

Interspinous process internal fixation; dynamic stabilization vs. Static distraction

Mesh (bioloigcal) in ICD-10-PCS

March 10, 2011

ICD-9-CM Diagnosis Topics:

Acute kidney injury

Acute interstitial pneumonia (re-presentation)

Atrial fibrillation

Highly calcified coronary lesions

Femoroacetabular impingement

Hepatopulmonary syndrome

Hypertrophic cardiomyopathy

Infection following transfusion (re-presentation)

Malnutrition (re-presentation)

Persistent air leak

Postoperative respiratory failure

Postoperative shock

Smoke inhalation

Thalessemia

Vitreomacular adhesion

Wandering

ICD-9-CM Addenda (diagnoses)

ICD-10-CM Topics:

Acute disseminated encephalitis and encephalomyelitis

Acute necrotizing hemorrhagic encephalopathy

Atrial fibrillation and flutter

Benign shuddering attacks

Developmental venous anomaly

Epilepsy

Glasgow coma scale

Hemorrhoids

Lumbar spinal cord issues

Migraine and headache issues

Muscular dystrophy and related issues

Orthopedic issues

Other chronic pain

Posterior Reversible Encephalopathy Syndrome

Ventral hernias

ICD-10-CM Addenda (diagnoses)

Agenda items are subject to change as priorities dictate.

Note: CMS and NCHS will no longer provide paper copies of handouts for the meeting. Electronic copies of all meeting materials will be posted on the CMS and NCHS Web sites prior to the meeting at http://www.cms.hhs.gov/ICD9ProviderDiagnosticCodes/03_meetings.asp#TopOfPage and http://www.cdc.gov/nchs/icd/icd9cm_maintenance.htm.

Contact Persons for Additional Information: Donna Pickett, Medical Systems Administrator, Classifications and Public Health Data Standards Staff, NCHS, 3311 Toledo Road, Room 2337, Hyattsville, Maryland 20782, e-mail dfp4@cdc.gov, telephone 301-458-4434 (diagnosis); Mady Hue, Health Insurance Specialist, Division of Acute Care, CMS, 7500 Security Boulevard, Baltimore, Maryland 21244, e-mail marilu.hue@cms.hhs.gov, telephone 410-786-4510 (procedures).

The Director, Management Analysis and Services Office, has been delegated the authority to sign Federal Register notices pertaining to announcements of meetings and other committee management activities, for both the Centers for Disease Control and Prevention, and the Agency for Toxic Substances and Disease Registry.

Dated: February 9, 2011.
Elaine L. Baker,
Director, Management Analysis and Services Office, Centers for Disease Control and Prevention.

[FR Doc. 2011-3542 Filed 2-15-11; 8:45 am]

BILLING CODE 4163-18-P